DEPARTMENT OF TRANSPORTATION

Federal Aviation Administration

[Docket No. FAA-2020-0257]

Agency Information Collection Activities: Requests for Comments; Clearance of a New Approval of Information Collection: Limited Recreational Unmanned Aircraft Operation Applications

AGENCY: Federal Aviation Administration (FAA), DOT.

ACTION: Notice and request for comments.

SUMMARY: In accordance with the Paperwork Reduction Act of 1995, FAA invites public comments about our intention to request Office of Management and Budget (OMB) approval for a new information collection. The Federal Register Notice with a 60-day comment period soliciting comments on the following collection of information was published on March 13, 2020. The information collected will be used to recognize Community Based Organizations (CBOs), administer an aeronautical knowledge and safety test, establish fixed flying sites, and approve standards and limitations for Unmanned Aircraft Systems (UAS) weighing more than 55 pounds.

DATES: Written comments should be submitted by January 4, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Kevin Morris by email at: kevin.morris@faa.gov; phone: (202) 267-1078.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-XXXX.

Title: Limited Recreational Unmanned Aircraft Operation Applications.

Form Numbers: Online collection.

Type of Review: New information collection.

Background: The Federal Register Notice with a 60-day comment period soliciting comments on the following collection of information was published on March 13, 2020 (85 FR 14723). In 2018, Congress passed the FAA Reauthorization Act of 2018 (Pub. L. 115-254). Section 44809 of Public Law 115-254 allows a person to operate a small unmanned aircraft (UA) without specific certification or operating authority from the FAA if the operation adheres to certain limitations. These limitations require the FAA to recognize community-based organizations (CBOs), develop and administer an aeronautical knowledge and safety test, establish fixed flying sites, and approve standards and limitations for unmanned aircraft weighing more than 55 pounds. The information will be collected online. The information collected will be limited to only that necessary for the FAA to complete a review of an application under the following statutory requirements:

• § 44809(c)(1), Operations at Fixed Sites

• § 44809(c)(2)(a), Standards and Limitations—UA Weighing More Than 55 Pounds

• § 44809(c)(2)(b), Operations at Fixed Sites—UA Weighing More Than 55 Pounds

• § 44809(g)(1), Aeronautical Knowledge and Safety Test

• § 44809(i), Recognition of Community-Based Organizations

Respondents: Individuals and organizations operating under the Exception for Limited Recreational Operations of Unmanned Aircraft who wish to be recognized as CBOs, administer the aeronautical knowledge and safety test, establish fixed flying sites, and have standards and limitations for unmanned aircraft weighing more than 55 pounds approved.

Frequency: On occasion.

Estimated Average Burden per Response: § 44809(c)(1) Operations at Fixed Sites—Operating Procedure Required: 30 minutes; § 44809(c)(2)(b) Operations at Fixed Sites—Unmanned Aircraft Weighing More Than 55 Pounds: Fixed Flying Site approval: 30 minutes; § 44809(g)(1) Aeronautical Knowledge and Safety Test—General: 34 hours; § 44809(i) Recognition of Community-Based Organizations: 2 hours.

Estimated Total Annual Burden: 1,224 hours.

Issued in Washington, DC, on November 30, 2020.
Dwayne C. Morris,
Project Manager, Flight Standards Service, General Aviation and Commercial Division.

[FR Doc. 2020-26617 Filed 12-2-20; 8:45 am]

BILLING CODE 4910-13-P